MORRIS K. UDALL AND STEWART L. UDALL FOUNDATION

Sunshine Act Meetings

TIME AND DATE: 9:00 a.m. to 5:00 p.m., Thursday, February 7, 2013.

PLACE: Westward Look Wyndham Grand Resort & Spa, 245 E. Ina Road, Tucson, Arizona 85704.

STATUS: This special meeting of the Board of Trustees will be open to the public, unless it is necessary for the Board to consider items in executive session.

MATTERS TO BE CONSIDERED: (1) Minutes of the November 9, 2012, Board of Trustees Meeting; (2) Election of Officers of the Board; (3) Election of Executive Committee Members; (4) Allocation of operating costs between the Morris K. Udall and Stewart L. Udall Trust Fund and the Environmental Dispute Resolution Fund; (5) PIF Fund, Inc., Cooperating Organization Agreement; (6) Final report of the Organizational Development Consultants; (7) Discuss the Final Report of the Organizational Development Consultants; (8) Review Personnel Matters; (9) Review the findings and recommendations from the U.S. Department of the Interior's Inspector General regarding the Udall Foundation audit; and (10) Possible action on the Organizational Development Consultants Report recommendations.

PORTIONS OPEN TO THE PUBLIC: All agenda items except as noted below.

PORTIONS CLOSED TO THE PUBLIC: Executive session to discuss the final report of the Organizational Development Consultants, review personnel matters, and review the findings and recommendations from the U.S. Department of the Interior's Inspector General regarding the Udall Foundation audit.

CONTACT PERSON FOR MORE INFORMATION: Philip J. Lemanski, Acting Executive Director, 130 South Scott Avenue, Tucson, AZ 85701, (520) 901-8500.

Dated: January 15, 2013.
Philip J. Lemanski,
Acting Executive Director, Morris K. Udall and Stewart L. Udall Foundation, and Federal Register Liaison Officer.

[FR Doc. 2013-01182 Filed 1-23-13; 8:45 am]

BILLING CODE 6820-FN-M